SMALL BUSINESS ADMINISTRATION

[Disaster Declaration # 12538 and # 12539]

Texas Disaster # TX-00375

AGENCY: U.S. Small Business Administration.

ACTION: Amendment 1.

SUMMARY: This is an amendment of the Administrative declaration of a disaster for the State of TEXAS dated 04/26/2011.

Incident: Rock House Wildfire.

Incident Period: 04/09/2011 through 05/10/2011.

Effective Date: 06/09/2011.

Physical Loan Application Deadline Date: 06/27/2011.

Economic Injury (EIDL) Loan Application Deadline Date: 01/26/2012.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Administrator's disaster declaration for the State of Texas, dated 04/26/2011 is hereby amended to establish the incident period for this disaster as beginning on 04/09/2011 and continuing through 05/10/2011.

All other information in the original declaration remains unchanged.

(Catalog of Federal Domestic Assistance Numbers 59002 and 59008)

Dated: June 9, 2011.
Karen G. Mills,
Administrator.

[FR Doc. 2011-14955 Filed 6-15-11; 8:45 am]

BILLING CODE 8025-01-P